DEPARTMENT OF HEALTH AND HUMAN SERVICES

Substance Abuse and Mental Health Services Administration

Opioid Drugs in Maintenance and Detoxification Treatment of Opiate Addiction; Public Notice of Revocation of Certification

AGENCY: Substance Abuse and Mental Health Services Administration (SAMHSA), Department of Health and Human Services.

ACTION: Notice.

SUMMARY: The Substance Abuse and Mental Health Services Administration has revoked the certification to provide opioid assisted treatment for the three opioid treatment programs listed below.

DATES: The revocation of certification was effective on March 20, 2007.

FOR FURTHER INFORMATION CONTACT: Nicholas Reuter, Center for Substance Abuse Treatment (CSAT), Division of Pharmacologic Therapies, SAMHSA, One Choke Cherry Road, Rm 2-1063, Rockville, MD 20857, (240) 276-2716, e-mail: Nicholas.Reuter@samhsa.hhs.gov.

SUPPLEMENTARY INFORMATION:

I. Background

In a notice published in the Federal Register of January 17, 2001 (66 FR 4076, January 17, 2001), the Substance Abuse and Mental health Services Administration (SAMHSA) issued final regulations for the use of narcotic drugs in maintenance and detoxification treatment of opioid addiction. That final rule established an accreditation-based regulatory system under 42 CFR part 8 (“Certification of Opioid Treatment Programs,” “OTPs”). The SAMHSA regulations establish the standards for determining that practitioners (programs) are qualified for Drug Enforcement Administration (DEA) registration under 21 U.S.C. 821(g)(1). Qualified programs are granted certification.

The regulations establish the conditions for certification as well as the criteria for the suspension or revocation of SAMHSA certification. In addition, Subpart C sets forth the procedures for review of suspension or proposed revocation of OTP certification.

The Administrator of SAMHSA proposed to decertify these three programs in August 2006. As set forth under 42 CFR part 8, subpart C, each OTP requested a review of the Administrator's proposal, and submitted documents and briefs to a designated reviewing official for consideration, that were incorporated into an administrative review record. After considering the available information and evidence, the reviewing officials, in upholding the Administrator's proposal to revoke certification, found that the OTPs listed below were in violation of Federal Opioid Treatment Program Regulations (42 CFR § 8.11,8.14).

1. New Horizon Rehabilitation Services, 4809 W. Chicago Ave., Chicago, IL 60651.

2. Turning Point Treatment Center, Inc., 210 Commerce St., Blairsville, Georgia 30512.

3. Bay Area C.A.R.E. Center, Inc., 3138 South Alameda, Corpus Christi, Texas 78404.

Dated: April 13, 2007.
Terry L. Cline,
Administrator, Substance Abuse and Mental Health Services Administration.

[FR Doc. 07-1994 Filed 4-23-07; 8:45 am]

BILLING CODE 4160-20-M